ENVIRONMENTAL PROTECTION AGENCY

40 CFR Part 52

[EPA-R04-OAR-2017-0105; FRL-9965-98-Region 4]

Air Plan Approval; Florida; Permitting Revisions

AGENCY: Environmental Protection Agency (EPA).

ACTION: Proposed rule.

SUMMARY: The Environmental Protection Agency (EPA) is proposing to approve portions of five State Implementation Plan (SIP) revisions submitted by the State of Florida, Department of Environmental Protection (FDEP), through the Florida Division of Air Resource Management, on June 23, 1999, July 1, 2011, December 12, 2011, February 27, 2013, and February 1, 2017. Florida's SIP revisions recodify, clarify, and reorganize the State's non-title V air permitting and compliance assurance program regulations consistent with flexibility provided under the Clean Air Act (CAA or Act) and EPA's rules which address new source preconstruction permitting. EPA is proposing to approve Florida's SIP revisions on the basis that they are consistent with the CAA and EPA's requirements for permitting air emission sources.

DATES: Comments must be received on or before September 11, 2017.

ADDRESSES: Submit your comments, identified by Docket ID No. EPA-R04-OAR-2017-0105 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

FOR FURTHER INFORMATION CONTACT: Michele Notarianni, Air Regulatory Management Section, Air Planning and Implementation Branch, Air, Pesticides and Toxics Management Division, U.S. Environmental Protection Agency, Region 4, 61 Forsyth Street SW., Atlanta, Georgia 30303-8960. Ms. Notarianni can be reached by phone at (404) 562-9031 and via electronic mail at notarianni.michele@epa.gov.

SUPPLEMENTARY INFORMATION:

I. Background

FDEP submitted to EPA for adoption into the Florida SIP five revisions, three of which were submitted on June 23, 1999, July 1, 2011, and February 27, 2013, as part of the State's efforts to clarify and streamline Florida's non-title V air permitting and compliance assurance program and to address EPA's minor source preconstruction requirements under 40 CFR 51.160-51.164.¹ In addition, on December 12, 2011, FDEP submitted a SIP revision to add a definition of “North American Industry Classification System,” or “NAICS,” to the Florida SIP.² On February 1, 2017, FDEP submitted a SIP revision to address requirements for emissions monitoring at stationary sources. The 1999 SIP submission includes amendments to 16 rule sections in the Florida Administrative Code (F.A.C.) that were adopted by the State between 1997 and 1999 to clarify and streamline FDEP's permitting process. The 2011 SIP submission includes clarifying and corrective amendments to 11 F.A.C. rule sections affecting FDEP's permitting regulations that were adopted by the State between 1997 and 2010. In its 2013 SIP submission, FDEP updates the 1999 and 2011 SIP submissions by either resubmitting or withdrawing 12 of the 16 F.A.C. rule sections originally included in those submittals, and providing updated versions of the remaining four rule sections for incorporation into the Florida SIP. In this action, EPA is proposing to act on the relevant regulations from these five SIP submissions as summarized in section III.

¹ The June 23, 1999, July 1, 2011, February 27, 2013, and February 1, 2017, Florida SIP submissions are also referred to as the “1999 SIP submission,” “2011 SIP submission,” “2013 SIP submission,” and the “2017 SIP submission,” respectively, in this action.

² The December 12, 2011, Florida SIP submission is also referred to as the “NAICS SIP submission” in this action.

II. Overview of Florida's Rule Revisions

A. June 23, 1999, SIP Revision

In Florida's June 23, 1999, SIP revision, FDEP submitted multiple amendments to four F.A.C. rule chapters—Chapters 62-210, 62-212, 62-296, and 62-297—as part of the State's work to clarify and streamline Florida's non-title V air permitting and compliance assurance program. The amendments to these four F.A.C. rule chapters affecting 16 rule sections were adopted by Florida between 1997 and 1999. FDEP requested adoption of the following 16 F.A.C. rule sections: 62-210.200, 62-210.220,³ 62-210.300, 62-210.350,⁴ 62-210.360, 62-212.400, 62-296.401,⁵ 62-296.405, 62-296.406, 62-296.414, 62-296.570, 62-297.310, 62-297.401, 62-297.440, 62-297.450, 62-297.520.⁶

³ EPA is considering action separately on the 62-210.220, F.A.C., “Small Business Assistance Program,” provision.

⁴ In its February 27, 2013, submission, Florida withdrew the proposed changes to 62-210.300, F.A.C. and 62-210.350, F.A.C. included in the June 23, 1999, submission.

⁵ In a supplemental letter dated June 28, 2017, Florida withdrew Rule 62-296.401, F.A.C., state effective November 13, 1997, and January 10, 2007, for proposed adoption into the Florida SIP, including its resubmissions of Florida's July 1, 2011, and February 27, 2013, submissions.

⁶ FDEP included two additional rules in its 1999 SIP submittal, 62-296.417 and 62-210.920, F.A.C., for state adoption only.

B. July 1, 2011, SIP Revision

In Florida's July 1, 2011, SIP revision, the State submitted amendments to 11 F.A.C. rule sections. Specifically, the State proposed to clarify, update, and revise certain requests from its June 23, 1999, SIP revision. The State also provided corrective and clarifying amendments to FDEP's new source review (NSR) permitting and stationary source control strategy programs, as well as to other miscellaneous provisions. Specifically, FDEP requested adoption of amendments to F.A.C. rule sections: 62-210.200,⁷ 62-210.220, 62-212.400,⁸ 62-212.720,⁹ 62-296.100, 62-296.401,¹⁰ 62-296.412, 62-296.414, 62-296.418, 62-296.500, and 62-296.508. Of these 11 rule sections, FDEP resubmitted four F.A.C. rule sections (62-210.200, 62-210.220, 62-296.401, and 62-296.414) from its June 23, 1999, submission, and requested amendments for three of the four rule sections ¹¹ into the Florida SIP.

⁷ In a supplemental letter dated June 28, 2017, Florida withdrew five definitions from Rule 62-210.200, F.A.C., for proposed adoption into the Florida SIP.

⁸ EPA approved revisions to Rule 62-212.400, “Prevention of Significant Deterioration,” contained in the July 1, 2011, submission into Florida's SIP on June 15, 2012 (77 FR 35862) and thus, EPA is not acting on this regulation in this action.

⁹ EPA is acting on revisions to Rule 62-212.720, “Actuals Plantwide Applicability Limits (PALs),” in a separate action.

¹⁰ In a supplemental letter dated June 28, 2017, Florida withdrew its request for EPA to approve into the State's SIP Rule 62-296.401, F.A.C., as provided in its July 1, 2011, submission.

¹¹ Rules 62-210.200, 62-296.401, and 62-296.414, F.A.C., were the three Florida rule sections resubmitted with subsequent amendments.

Also in this revision, FDEP withdrew its request for EPA to approve amendments to six F.A.C. rule sections submitted in its June 23, 1999, SIP revision: 62-210.360, 62-212.400, 62-296.570, 62-297.401, 62-297.440, and 62-297.520. Additionally, FDEP reiterated its original June 23, 1999, request to approve four F.A.C. rule sections, all with state effective dates of March 2, 1999, from its 1999 SIP submission: 62-296.405, 62-296.406, 62-297.310, and 62-297.450.

C. December 12, 2011, SIP Revision

In Florida's December 12, 2011, SIP revision, the State submitted amendments to two of its rules—62-210.200 and 62-212.400, F.A.C.—which included the addition of one new definition, “North American Industry Classification System,” or “NAICS,” to rule 62-210.200, F.A.C.¹²

¹² With the exception of the definition, “North American Industry Classification System,” or “NAICS,” in rule 62-210.200, F.A.C., EPA is taking no action today on the remaining rule changes in Florida's December 12, 2011, SIP submission.

D. February 27, 2013, SIP Revision

In Florida's February 27, 2013, SIP revision, the State submitted amendments to four F.A.C. rule sections: 62-210.200, 62-210.300,¹³ 62-210.310, and 62-210.350.¹⁴ Also in its 2013 SIP revision, the State withdrew its request for approval of earlier versions of two rules, 62-210.300 and 62-210.350, F.A.C., submitted as part of its June 23, 1999, SIP revision. Additionally, FDEP requested removal of 62-210.920, F.A.C., from the Florida SIP and affirmed its request in the State's 2011 SIP submission to withdraw submitted amendments to the following five F.A.C. rule sections: 62-210.360, 62-296.570, 62-297.401, 62-297.440, and 62-297.520.

¹³ EPA is taking no action today on 62-210.300, F.A.C. “Permits Required.”

¹⁴ In a supplemental letter dated June 28, 2017, Florida withdrew its request for EPA to approve the addition of 62-210.350(1)(c), F.A.C. (effective February 11, 1999) into the Florida SIP. Additionally, EPA is taking no action today on 62-210.350(4)(a)2 and 62-210.350(4)(b), F.A.C. in Florida's February 27, 2013, SIP submission.

E. February 1, 2017, SIP Revision

In Florida's February 1, 2017, SIP revision, the State submitted amendments to three of its rules to address requirements for emissions monitoring at stationary sources—62-297.310, 62-297.440, and 62-297.450, F.A.C.—and proposed to remove 62-297.401, F.A.C. In the submitted amendments, FDEP made several clarifications to rule 62-297.310, F.A.C.¹⁵

¹⁵ With the exception of the revisions pertaining to 62-297.310, F.A.C., EPA is taking no action today on the remaining rule changes in Florida's February 1, 2017, SIP submission.

A description of these collective changes to each rule section from Florida's 1999, 2011, 2013, and 2017 SIP submissions and the State's NAICS SIP submission summarized above and EPA's analysis of the proposed changes follows.

III. What is EPA's analysis of Florida's rule revisions?

A. List of Rule Amendments Proposed for Incorporation Into the Florida SIP

Described below are the Florida rules and/or subsections of those rules which EPA is proposing to incorporate into the Florida SIP.

1. Rule 62-210.200, F.A.C., “Definitions”

In its July 1, 2011, SIP submission, FDEP requested approval of changes to 15 definitions in Rule 62-210.200, F.A.C., with a state effective date of March 11, 2010. EPA will act on the July 1, 2011, SIP submission rule section changes—which were resubmitted in the State's 2013 submission—in a separate rulemaking. Thus, EPA is not proposing action on these 15 definitions contained in the 2011 SIP submission and also resubmitted in the 2013 SIP submission today.

In its December 12, 2011, SIP submission, Florida added a new definition of “North American Industry Classification System,” or “NAICS.” EPA proposes to adopt this definition (state effective on December 4, 2011) into the Florida SIP as renumbered effective March 28, 2012, on the basis that the new definition added is for administrative purposes to explain terms included in other Florida rules that have previously been approved into the SIP.

In its 2013 submission, Florida requested approval of changes to Rule 62-210.200, F.A.C., as amended up to state effective date March 28, 2012, to include four sets of amendments adopted by the State between 2005 and 2012.¹⁶ These rule changes include: Renumbering definitions, adding 21 new definitions, revising three existing definitions, and repealing two definitions.¹⁷ The purpose of adopting the revised definitions is to improve clarity, and to support language in other F.A.C. rule sections. All definitions originally submitted for approval in its 1999 SIP submission have been resubmitted in the 2011 and 2013 SIP submissions. EPA proposes to approve these revisions into the Florida SIP because they are administrative and/or provide non-substantive clarification of other provisions already approved into the State's SIP.

¹⁶ In addition, Florida withdrew its request to adopt an earlier version of Rule 62-210.200, F.A.C., submitted for approval in its 1999 submission.

¹⁷ See Florida's 2013 submission, pp.7-10, for a list of the 26 definitions and FDEP's explanation for the changes.

2. Rule 62-210.310, F.A.C., “Air General Permits”

In its 2013 submission, Florida requested approval into the SIP changes to Rule 62-210.310, F.A.C., “Air General Permits” as amended up to state effective date June 29, 2011, which include three sets of amendments adopted by the State between 2007 and 2011. This rule section, as amended, provides 17 air general permits, or “permits-by-rule,” by which owners or operators of air emission sources can construct and operate their facilities without going through the individual permitting process, so long as certain requirements are satisfied.¹⁸ Six of the air general permits (at subsection 62-210.310(4), F.A.C.) impose operating restrictions that allow facilities to avoid major source permitting. Eleven of the air general permits (at subsection 62-210.310(5), F.A.C.) allow certain facilities to avoid the permitting process for minor source air construction and non-title V air operation permits because these sources utilize pre-manufactured equipment and thus, do not need the preconstruction engineering review incorporated into FDEP's individual source permit process.

¹⁸ See Florida's 2013 submission, pp.20-24, for a list of all air general permits in subsections 62-210.310(4), F.A.C. and 62-210.310(5), F.A.C. adopted by Florida as of June 29, 2011.

EPA proposes to approve the changes provided in Florida's 2013 SIP submission to Rule 62-210.310, F.A.C., with state effective dates of January 10, 2007, October 12, 2008, and June 29, 2011, into Florida's SIP on the basis that these changes are intended to further clarify, organize, and streamline Florida's permit regulations. Moreover, these changes are not inconsistent with federal law, and will not interfere with any applicable requirement concerning attainment of the NAAQS, reasonable further progress, or any other requirement of the CAA.

3. Rule 62-210.350, F.A.C., “Public Notice and Comment”

In its 2013 submission, FDEP requested approval into the SIP of revisions to Rule 62-210.350, F.A.C., “Public Notice and Comment” as amended up to state effective date October 12, 2008, to incorporate three sets of amendments adopted by the State between 1997 and 2008. In the submission, Florida withdrew its request to adopt an earlier version of Rule 62-210.350, F.A.C., which was included in its 1999 submission.¹⁹ Rule 62-210.350, F.A.C., establishes public notice requirements for both major and minor source air construction permits, State air operation permits, federally enforceable state operation permits, and title V air operation permits. FDEP amended this rule section to update references to FDEP's administrative procedures rule at 62-110.106, F.A.C., to allow sources to combine public notice for construction and operation permits, and clarify that if these public notices are combined, sources must comply with the requirements for both notices, and to make other non-substantive clarifying changes.

¹⁹ In a supplemental letter dated June 28, 2017, Florida also withdrew from the 1999 and 2013 SIP submissions the addition of 62-210.350(1)(c) state effective February 11, 1999. Florida's June 28, 2017, letter is included in the docket for this action.

EPA proposes to approve portions of the revisions provided in Florida's 2013 SIP submission to Rule 62-210.350, F.A.C. (with state effective dates of November 13, 1997, February 11, 1999, October 12, 2008) with the exception of three F.A.C. rule subsections: 62-210.350(4)(a)2, 62-210.350(4)(b), and the withdrawn revision at 62-210.350(1)(c). These changes are intended to clarify, organize, and streamline Florida's permit regulations. Moreover, these changes are not inconsistent with federal law, and will not interfere with any applicable requirement concerning attainment of the NAAQS, reasonable further progress, or any other requirement of the CAA.

4. Rule 62-296.100, F.A.C., “Purpose and Scope”

In its July 1, 2011 submission, FDEP submitted an amendment to Rule 62-296.100, F.A.C., which was state-effective October 6, 2008. The amendment separated the rule language into four subsections for improved readability. The amendment also added language to clarify that a facility or emissions unit subject to any new source performance standard or national emission standard for hazardous air pollutants adopted by reference at Rule 62-204.800, F.A.C., must also comply with any emission limitations that may apply in Chapter 62-296, F.A.C. EPA proposes to approve these non-substantive changes to Rule 62-296.100, F.A.C., provided in Florida's 2011 SIP submission.

5. Rule 62-296.405, F.A.C., “Fossil Fuel Steam Generators With More Than 250 Million Btu Per Hour Heat Input”

In its 1999 SIP submission, FDEP submitted changes to Rule 62-296.405, F.A.C., with a state effective date of March 2, 1999, which clarified the test method procedure for visible emissions that must be used in lieu of FDEP's Method 9 testing incorporated in Chapter 62-297, F.A.C. In addition, the submission clarifies which sources may use fuel sampling and analysis as an alternative test method for sulfur dioxide emissions instead of EPA Methods 6, 6A, 6B or 6C. The revisions also provide the procedures to obtain approval from the State for this alternative test method. The amendments also clarify other wording in a few parts of this rule section. EPA proposes to approve the changes provided in Florida's 1999 SIP submission to Rule 62-296.405, F.A.C. on the basis that these changes are intended to further clarify, organize, and streamline Florida's permit regulations. Moreover, these changes are not inconsistent with federal law, and will not interfere with any applicable requirement concerning attainment of the NAAQS, reasonable further progress, or any other requirement of the CAA.

6. Rule 62-296.406, F.A.C., “Fossil Fuel Steam Generators with Less Than 250 Million Btu per Hour Heat Input, New and Existing Emissions Units”

In its 1999 SIP submission, FDEP submitted revisions to Rule 62-296.406, F.A.C., with a state effective date of March 2, 1999, to add language to clarify that all emissions standards for new and existing small fossil fuel steam generators do not apply to units that are determined to be insignificant under Florida's title V regulations at 62-213.300(2)(a)1., F.A.C., and 62-213.430(6)(b), F.A.C.²⁰ As relevant here, a generator is considered insignificant if two requirements are satisfied: First, the emissions unit will neither emit nor have the potential to emit five tons per year or more of particulate matter or sulfur dioxide; and second, the emissions unit will not cause the facility as a whole to emit nor have the potential to emit 100 tons per year or more of either of those pollutants. EPA proposes to approve the revisions provided in Florida's 1999 SIP submission to Rule 62-296.406, F.A.C. on the basis that these changes are intended to further clarify, organize, and streamline Florida's permit regulations, are not inconsistent with federal law, and will not interfere with any applicable requirement concerning attainment of the NAAQS, reasonable further progress, or any other requirement of the CAA.

²⁰ EPA approved Florida's title V permit program on October 1, 2001. See 66 FR 49837.

7. Rule 62-296.412, F.A.C., “Dry Cleaning Facilities”

In its 2011 submission, FDEP submitted amendments to Rule 62-296.412, F.A.C., “Dry Cleaning Facilities,” which became state effective March 11, 2010. The amendments delete a reference to ozone nonattainment areas because Florida currently has no ozone nonattainment areas. Moreover, without this change, the rule would immediately apply in newly designated ozone nonattainment areas, giving facilities no lead time to achieve compliance. If an area in Florida is designated nonattainment for the ozone national ambient air quality standards (NAAQS) in the future, Florida would be required to submit an implementation plan to attain this NAAQS, and thus would need to address sources in the nonattainment area at that time. Also, the changes replace an incorrect reference to Chapter 62-275, F.A.C., with the correct rule reference to 62-204.340, F.A.C. EPA proposes to approve the changes provided in Florida's 2011 SIP submission to Rule 62-296.412, F.A.C., on the basis that these changes are intended to correct a reference in this rule, to further clarify, organize, and streamline Florida's permit regulations. Moreover, these changes are not inconsistent with federal law, and will not interfere with any applicable requirement concerning attainment of the NAAQS, reasonable further progress, or any other requirement of the CAA.

8. Rule 62-296.414, F.A.C., “Concrete Batching Plants”

In its 2011 SIP submission, FDEP submitted two sets of amendments to Rule 62-296.414, F.A.C., “Concrete Batching Plants,” with state effective dates of November 13, 1997, and January 10, 2007.²¹ These amendments clarify portions of this rule section related to rule applicability and test method references; specify the precautions that must be taken to control unconfined emissions from concrete batching facilities; identify conditions under which visible emissions testing must be conducted; and, clarify the visible emissions testing schedule for concrete batching plants based on whether the unit is operating under the authority of an air general permit or a standard air construction or air operation permit. EPA proposes to approve the changes provided in Florida's 2011 SIP submission to Rule 62-296.414, F.A.C. on the basis that these changes are intended to further clarify, organize, and streamline Florida's permit regulations. Moreover, these changes are not inconsistent with federal law, and will not interfere with any applicable requirement concerning attainment of the NAAQS, reasonable further progress, or any other requirement of the CAA.

²¹ Florida withdrew its request to act on amendments to this rule originally submitted in its 1999 submission because the State re-submitted this rule in its 2011 submission.

9. Rule 62-296.418, F.A.C., “Bulk Gasoline Plants”

In its 2011 SIP submission, FDEP submitted amendments to Rule 62-296.418, F.A.C., “Bulk Gasoline Plants,” which became state effective March 11, 2010. The change deletes a reference to ozone nonattainment areas because Florida currently has no ozone nonattainment areas. Moreover, without this change, the rule would immediately apply in newly designated ozone nonattainment areas, giving facilities no lead time to achieve compliance. If an area in Florida is designated nonattainment for the ozone NAAQS in the future, Florida would be required to submit a plan to attain this NAAQS, and thus would need to address sources in the nonattainment area at that time. EPA proposes to approve the revisions provided in Florida's 2011 SIP submission to Rule 62-296.418, F.A.C. on the basis that these changes are intended to further clarify, organize, and streamline Florida's permit regulations. Moreover, these changes are not inconsistent with federal law, and will not interfere with any applicable requirement concerning attainment of the NAAQS, reasonable further progress, or any other requirement of the CAA.

10. Rule 62-296.500, F.A.C., “Reasonably Available Control Technology (RACT)—Volatile Organic Compounds (VOC) and Nitrogen Oxides (NOX) Emitting Facilities”

In its 2011 SIP submission, FDEP submitted one amendment to Rule 62-296.500, F.A.C., “Reasonably Available Control Technology (RACT)—Volatile Organic Compounds (VOC) and Nitrogen Oxides (NOX) Emitting Facilities,” which became state effective March 11, 2010. The change deletes reference to ozone nonattainment areas because Florida currently has no ozone nonattainment areas. Moreover, without this change, the rule would immediately apply in newly designated ozone nonattainment areas, giving facilities no lead time to achieve compliance. If an area in Florida is designated nonattainment for the ozone NAAQS in the future, Florida would be required to submit a plan to attain this NAAQS and thus would need to address sources in the nonattainment area at that time. Also, the amendment clarifies that references to air quality maintenance areas mean those areas defined at Rule 62-204.340, F.A.C. EPA proposes to approve the revisions provided in Florida's 2011 SIP submission to Rule 62-296.500, F.A.C.

11. Rule 62-296.508, F.A.C., “Petroleum Liquid Storage”

In its 2011 submission, FDEP submitted one amendment to Rule 62-296.508, F.A.C., “Petroleum Liquid Storage,” which became state effective October 6, 2008. The change removes an erroneous reference to EPA Method 21. EPA proposes to approve the change provided in Florida's 2011 SIP submission to Rule 62-296.508, F.A.C.

12. Rule 62-297.310, F.A.C., “General Emissions Test Requirements”

In its 1999 SIP submission, FDEP submitted revisions to Rule 62-297.310, F.A.C., “General Compliance Test Requirements,” which became state effective March 2, 1999. These changes include minor clarifications to wording in the rule and identify for which types of emissions units an annual compliance test for visible emissions is not required. In its 2017 SIP submission, FDEP made further revisions to Rule 62-297.310, F.A.C., (which became state effective March 9, 2015) and changed the title to “General Emissions Test Requirements.” The changes in the 2017 submission include: Modification of the emissions test procedures; clarification of the requirements for emissions tests and terminology used in the regulation; reduction in the number of annual emissions tests required for emissions units that operate infrequently or are temporarily shut down; and elimination of obsolete and duplicative language. The revision also creates an exemption from annual compliance test requirements for any unit determined to be insignificant under Florida's title V regulations at 62-213.300(2)(a)1., F.A.C., and 62-213.430(6)(b), F.A.C.²² EPA proposes to approve the revisions provided in Florida's June 23, 1999, and February 1, 2017, SIP submissions to Rule 62-297.310, F.A.C.

²² EPA approved Florida's title V permit program on October 1, 2001. See 66 FR 49837.

13. Rule 62-297.450, F.A.C., “EPA VOC Capture Efficiency Test Procedures”

In its 1999 SIP submission, FDEP submitted revisions to Rule 62-297.450, F.A.C., “EPA VOC Capture Efficiency Test Procedures,” which became state effective March 2, 1999. These changes incorporate EPA Method 204 and EPA's capture efficiency test procedures. EPA proposes to approve the changes provided in Florida's 1999 SIP submission to Rule 62-297.450, F.A.C. on the basis that these changes are consistent with EPA's VOC capture efficiency test procedure guidelines.²³

²³ EPA document GD-035, “Guidelines for Determining Capture Efficiency,” dated January 9, 1995, is available at: https://www3.epa.gov/ttn/emc/guidlnd/gd-035.pdf.

B. Rule Proposed for Removal From the Florida SIP

1. Rule 62-210.920, F.A.C., “Air General Permit Forms”

In its 2013 submission, FDEP requested that Rule 62-210.920, F.A.C., “Air General Permit Forms,” be removed from the SIP. This rule section contained Florida's air general permit registration forms, which the State has replaced with an online registration system. The State repealed this rule section with a state effective date of June 29, 2011. EPA proposes to approve removal of Rule 62-210.920, F.A.C., “Air General Permit Forms” from the Florida SIP because this rule section imposes no requirements beyond those requirements already found in Rule 62-210.310, F.A.C.

IV. Incorporation by Reference

In this rule, EPA is proposing to include in a final EPA rule regulatory text that includes incorporation by reference. In accordance with requirements of 1 CFR 51.5, EPA is proposing to incorporate by reference changes to: Rule 62-210.200, F.A.C., “Definitions,” effective March 28, 2012; Rule 62-210.310, F.A.C., “Air General Permits,” effective June 29, 2011; Rule 62-210.350, F.A.C., “Public Notice and Comment,” effective October 12, 2008; Rule 62-296.100, F.A.C., “Purpose and Scope,” effective October 6, 2008; Rule 62-296.405, F.A.C., “Fossil Fuel Steam Generators with More Than 250 Million Btu Per Hour Heat Input,” effective March 2, 1999; Rule 62-296.406, F.A.C., “Fossil Fuel Steam Generators with Less Than 250 Million Btu per Hour Heat Input, New and Existing Emissions Units,” effective March 2, 1999; Rule 62-296.412, F.A.C., “Dry Cleaning Facilities,” effective March 11, 2010; Rule 62-296.414, F.A.C., “Concrete Batching Plants,” effective January 10, 2007; Rule 62-296.418, F.A.C., “Bulk Gasoline Plants,” effective March 11, 2010; Rule 62-296.500, F.A.C., “Reasonably Available Control Technology (RACT)—Volatile Organic Compounds (VOC) and Nitrogen Oxides (NOX) Emitting Facilities,” effective March 11, 2010; Rule 62-296.508, F.A.C., “Petroleum Liquid Storage,” effective October 6, 2008; Rule 62-297.310, F.A.C., “General Emissions Test Requirements,” effective March 9, 2015; and Rule 62-297.450, F.A.C., “EPA VOC Capture Efficiency Test Procedures,” effective March 2, 1999. EPA has made, and will continue to make, these materials generally available through www.regulations.gov and/or at the EPA Region 4 office (please contact the person identified in the For Further Information Contact section of this preamble for more information).

V. What action is EPA proposing to take?

EPA is proposing to approve portions of Florida's five SIP revisions submitted by the State on June 23, 1999, July 1, 2011, December 12, 2011, February 27, 2013, and February 1, 2017, as meeting the applicable requirements of the CAA and EPA's requirements for permitting air emission sources.

VI. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the Act. Accordingly, this proposed action merely approves state law as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandates or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Act; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen oxides, Particulate matter, Reporting and recordkeeping requirements, Sulfur dioxide, Volatile organic compounds.

Authority: 42 U.S.C. 7401 et seq.

Dated: July 28, 2017.
V. Anne Heard
Acting Regional Administrator, Region 4.

[FR Doc. 2017-16815 Filed 8-9-17; 8:45 am]

BILLING CODE 6560-50-P